FEDERAL RETIREMENT THRIFT INVESTMENT BOARD

Sunshine Act Meeting

Time and Date: 2:30 p.m. (EDT), June 2, 2005.

Place: 4th Floor Conference Room, 1250 H Street, NW., Washington, DC.

Status: Closed to the public.

Matters To Be Considered:

Closed to the Public

Procurement.

Contact Person for More Information: Thomas J. Trabucco, Director, Office of External Affairs, (202) 942-1640.

Dated: May 26, 2005.
Elizabeth S. Woodruff,
Secretary to the Board, Federal Retirement Thrift Investment Board.

[FR Doc. 05-10897 Filed 5-26-05; 2:04 pm]

BILLING CODE 6760-01-P